DEPARTMENT OF DEFENSE

GENERAL SERVICES ADMINISTRATION

NATIONAL AERONAUTICS AND SPACE ADMINISTRATION

48 CFR Part 40

[FAR Case 2023-008, Docket No. 2023-0008, Sequence No. 1]

RIN 9000-AO56

Federal Acquisition Regulation: Prohibition on Certain Semiconductor Products and Services; Correction

AGENCY: Department of Defense (DoD), General Services Administration (GSA), and National Aeronautics and Space Administration (NASA).

ACTION: Advance notice of proposed rulemaking; correction.

SUMMARY: DoD, GSA, and NASA are issuing a correction to FAR Case 2023-008; Prohibition on Certain Semiconductor Products and Services; which published in the Federal Register on May 3, 2024. This correction makes an update to the web page URL.

DATES: May 15, 2024.

FOR FURTHER INFORMATION CONTACT: Farpolicy@gsa.gov or call 202-969-4075. Please cite FAR Case 2023-008; Correction.

SUPPLEMENTARY INFORMATION:

Correction

In rule FR Doc. 2024-08735, published in the Federal Register at 89 FR 36738, on May 3, 2024, make the following correction:

On page 36738, in the third column, in the first paragraph correct web page URL: https://www.nist.gov/semiconductors.

William F. Clark,
Director, Office of Government-wide Acquisition Policy, Office of Acquisition Policy, Office of Government-wide Policy.

[FR Doc. 2024-10632 Filed 5-14-24; 8:45 am]

BILLING CODE 6820-EP-P